DEPARTMENT OF TRANSPORTATION

Federal Aviation Administration

14 CFR Part 39

[Docket No. FAA-2015-1277; Directorate Identifier 2014-NM-155-AD; Amendment 39-18459; AD 2016-07-14]

RIN 2120-AA64

Airworthiness Directives; Airbus Airplanes

AGENCY: Federal Aviation Administration (FAA), Department of Transportation (DOT).

ACTION: Final rule.

SUMMARY: We are adopting a new airworthiness directive (AD) for certain Airbus Model A319, A320, and A321 series airplanes. This AD is intended to complete certain mandated programs intended to support the airplane reaching its limit of validity (LOV) of the engineering data that support the established structural maintenance program. This AD was prompted by fatigue testing that determined fatigue damage could appear on clips, shear webs, and angles at certain rear fuselage sections and certain frames. This AD requires replacing the clips, shear webs, and angles, including doing all applicable related investigative actions, and repair if necessary. We are issuing this AD to prevent fatigue damage on the clips, shear webs, and angles; such damage could affect the structural integrity of the airplane.

DATES: This AD becomes effective May 16, 2016.

The Director of the Federal Register approved the incorporation by reference of a certain publication listed in this AD as of May 16, 2016.

ADDRESSES: For service information identified in this final rule, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-1277.

Examining the AD Docket

You may examine the AD docket on the Internet at http://www.regulations.gov by searching for and locating Docket No. FAA-2015-1277; or in person at the Docket Management Facility between 9 a.m. and 5 p.m., Monday through Friday, except Federal holidays. The AD docket contains this AD, the regulatory evaluation, any comments received, and other information. The street address for the Docket Operations office (telephone 800-647-5527) is in the ADDRESSES section.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 by adding an AD that would apply to certain Airbus Model A319, A320, and A321 series airplanes. The NPRM published in the Federal Register on May 8, 2015 (80 FR 26487) (“the NPRM”).

The European Aviation Safety Agency (EASA), which is the Technical Agent for the Member States of the European Union, has issued EASA Airworthiness Directive 2014-0177, dated July 25, 2014 (referred to after this as the Mandatory Continuing Airworthiness Information, or “the MCAI”), to correct an unsafe condition for certain Airbus Model A319, A320, and A321 series airplanes. The MCAI states:

During the A320 fatigue test campaign for Extended Service Goal (ESG), it was determined that fatigue damage could appear on the clips, shear webs and angles at rear fuselage section 19, on Frame (FR) 72 and FR74.

This condition, if not detected and corrected, could affect the structural integrity of the aeroplane.

To address this potential unsafe condition, Airbus developed a modification, which has been published through Airbus Service Bulletin (SB) A320-53-1266 for in-service application to allow aeroplanes to operate up to the new ESG limit.

For the reasons described above, this [EASA] AD requires replacement of the affected clips, shear webs and angles at rear fuselage section 19, FR72 and FR74 [including all applicable related investigative actions and repair if any cracking is found].

Related investigative actions include rotating probe testing for cracking of the fastener holes and high frequency eddy current inspections for cracking of the stringers. You may examine the MCAI in the AD docket on the Internet at http://www.regulations.gov by searching for and locating Docket No. FAA-2015-1277.

Actions Since NPRM was Issued

Since the NPRM was issued, Airbus has issued Airbus Service Bulletin A320-53-1266, Revision 03, dated May 7, 2015. We have revised paragraph (g) of this AD to reference this revised service information. We have revised paragraph (i) of this AD to give credit for actions done before the effective date of this AD using the following service information.

• Airbus Service Bulletin A320-53-1266, dated January 11, 2013.

• Airbus Service Bulletin A320-53-1266, Revision 01, dated June 20, 2013.

• Airbus Service Bulletin A320-53-1266, Revision 02, dated August 13, 2014.

Comments

We gave the public the opportunity to participate in developing this AD. The following presents the comments received on the NPRM and the FAA's response to each comment.

Support for the NPRM

An anonymous commenter provided support for the NPRM.

Request To Omit Part Replacement Requirement

United Airlines requested that we revise paragraph (h) of the proposed AD to omit the additional part replacement. United Airlines noted that paragraph (h) of the proposed AD states that the replacement of clips, shear webs, and angles must be accomplished again before 30,000 flight cycles or 60,000 flight hours, whichever occurs first, if the replacement was accomplished before 30,000 flight cycles or 60,000 flight hours, whichever occurred first from airplane's first flight. The commenter stated that this paragraph suggests that the installation of new parts does not constitute terminating action. The commenter expressed that paragraph (g) of the proposed AD has no repetitive requirement for replacement of new parts if accomplished between 30,000 and 48,000 flight cycles or 60,000 and 96,000 flight hours since the airplane's first flight. The commenter suggested that this requirement will encourage operators to replace the part when the airplane has accumulated more than 30,000 total flight cycles and 60,000 total flight hours in order to avoid the possibility of additional part replacement. The commenter added that installation of new parts twice, increases the risk of damage during the part replacement.

United Airlines stated further that the additional replacement in paragraph (h) of the proposed AD could potentially result in the requirement to replace the part twice before the threshold defined in paragraph (g) of the proposed AD. By way of example, the commenter stated that if the part replacement were accomplished before 18,000 flight cycles and 36,000 flight hours since the airplane's first flight, the replacement would be required again before 48,000 flight cycles or 96,000 flight hours since the airplane's first flight. This scenario implies that the new parts reduce the fatigue life compared to an unmodified aircraft. United Airlines stated that it is not clear how the additional replacement in paragraph (h) of the proposed AD meets the intent of the NPRM. The replacement part modification prevents fatigue damage on the clips, shear webs, and angles to support operation reaching the LOV. However, there is no explanation in the AD that these new parts are life limited.

We disagree to omit the additional part replacement required by paragraph (h) of this AD. We agree with United Airlines' assessment that this AD would require replacement of the clips, shear webs, and angles twice, if those parts are first replaced prior to 30,000 total flight cycles or 60,000 total flight hours, whichever occurs first. Replacement of clips, shear webs, and angles prior to 30,000 total flight cycles or 60,000 total flight hours may have been required due to reasons other than this AD. However, this AD does not require replacement of the parts before 30,000 total flight cycles or 60,000 total flight hours. We have determined that if the parts are replaced before 30,000 total flight cycles or 60,000 total flight hours, whichever occurs first, a repeat replacement of those parts is necessary to support the airplane reaching its LOV of the engineering data.

We also disagree that requiring replacement of the parts twice, will increase the risk of damage. The procedures specified in Airbus Service Bulletin A320-53-1266, Revision 03, dated May 7, 2015, for replacing clips, shear webs, and angles are appropriate for supporting the continued operational safety of the affected Airbus fleet and do not introduce additional risk to the structural integrity of the airplane. We have made no changes to this AD in this regard.

Conclusion

We reviewed the relevant data, considered the comments received, and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

Airbus has issued Airbus Service Bulletin A320-53-1266, Revision 03, dated May 7, 2015. The service information describes procedures for replacing clips, shear webs, and angles at rear fuselage section 19, FR72 and FR74. This service information is reasonably available because the interested parties have access to it through their normal course of business or by the means identified in the ADDRESSES section.

Costs of Compliance

We estimate that this AD affects 44 airplanes of U.S. registry.

We also estimate that it will take about 110 work-hours per product to comply with the basic requirements of this AD. The average labor rate is $85 per work-hour. Based on these figures, we estimate the cost of this AD on U.S. operators to be $411,400, or $9,350 per product.

We have received no definitive data on the costs of required parts.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-07-14 Airbus: Amendment 39-18459. Docket No. FAA-2015-1277; Directorate Identifier 2014-NM-155-AD.

(a) Effective Date

This AD becomes effective May 16, 2016.

(b) Affected ADs

None.

(c) Applicability

This AD applies to the airplanes identified in paragraphs (c)(1), (c)(2), and (c)(3) of this AD, certificated in any category, all manufacturer serial numbers, except those on which Airbus Modification 30975 has been embodied in production.

(1) Airbus Model A319-111, -112, -113, -114, -115, -131, -132, and -133 airplanes.

(2) Airbus Model A320-211, -212, -214, -231, -232, and -233 airplanes.

(3) Airbus Model A321-111, -112, -131, -211, -212, -213, -231, and -232 airplanes.

(d) Subject

Air Transport Association (ATA) of America Code 53, Fuselage.

(e) Reason

This AD was prompted by fatigue testing that determined that fatigue damage could appear on clips, shear webs, and angles at certain rear fuselage sections and certain frames. This AD is intended to complete certain mandated programs intended to support the airplane reaching its limit of validity of the engineering data that support the established structural maintenance program. We are issuing this AD to prevent fatigue damage on the clips, shear webs, and angles, which could affect the structural integrity of the airplane.

(f) Compliance

Comply with this AD within the compliance times specified, unless already done.

(g) Replacement

At the later of the times specified in paragraphs (g)(1) and (g)(2) of this AD: Replace the clips, shear webs, and angles at rear fuselage section 19, frame FR72 and FR74, and do all applicable related investigative actions before further flight, in accordance with the Accomplishment Instructions of Airbus Service Bulletin A320-53-1266, Revision 03, dated May 7, 2015. If any crack is found during any related investigative action required by this AD: Before further flight, repair using a method approved by the Manager, International Branch, ANM-116, Transport Airplane Directorate, FAA; or the European Aviation Safety Agency (EASA); or Airbus's EASA Design Organization Approval (DOA).

(1) Before exceeding 48,000 flight cycles or 96,000 flight hours, whichever occurs first since the airplane's first flight.

(2) Within 30 days after the effective date of this AD.

(h) Additional Replacement for Certain Airplanes

For airplanes on which the replacement of clips, shear webs, and angles specified in Airbus Service Bulletin A320-53-1266 is done before accumulating 30,000 flight cycles or 60,000 flight hours, whichever occurred first since the airplane's first flight: Within 30,000 flight cycles or 60,000 flight hours, whichever occurs first after that replacement, do the replacement specified in paragraph (g) of this AD.

(i) Credit for Previous Actions

Except as required by paragraph (h) of this AD: This paragraph provides credit for the replacement required by paragraph (g) of this AD, if those actions were performed before the effective date of this AD using the service information identified in paragraph (i)(1), (i)(2), or (i)(3) of this AD. This service information is not incorporated by reference in this AD.

(1) Airbus Service Bulletin A320-53-1266, dated January 11, 2013.

(2) Airbus Service Bulletin A320-53-1266, Revision 01, dated June 20, 2013.

(3) Airbus Service Bulletin A320-53-1266, Revision 02, dated August 13, 2014.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(k) Related Information

(1) Refer to Mandatory Continuing Airworthiness Information (MCAI) EASA Airworthiness Directive 2014-0177, dated July 25, 2014, for related information. This MCAI may be found in the AD docket on the Internet at http://www.regulations.gov by searching for and locating Docket No. FAA-2015-1277.

(2) Service information identified in this AD that is not incorporated by reference is available at the addresses specified in paragraphs (l)(3) and (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-53-1266, Revision 03, dated May 7, 2015.

(ii) Reserved.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 25, 2016.
Michael Kaszycki,
Acting Manager, Transport Airplane Directorate, Aircraft Certification Service.

[FR Doc. 2016-07375 Filed 4-8-16; 8:45 am]

BILLING CODE 4910-13-P